DEPARTMENT OF THE INTERIOR

Bureau of Land Management

[MT-050-1610-DP-018E]

Notice of Availability of the Draft Resource Management Plan and Environmental Impact Statement (DRMP/EIS) for the Dillon Field Office, MT

AGENCY: Bureau of Land Management, Montana State Office, Interior.

ACTION: Notice of availability.

SUMMARY: In accordance with the National Environmental Policy Act of 1969 (NEPA) and under the authority of the Federal Land Policy and Management Act of 1976 (FLPMA), a Draft Resource Management Plan and Environmental Impact Statement (DRMP/EIS) has been prepared for public lands and resources administered by the Bureau of Land Management's Dillon Field Office. The public is invited to review and comment on the range and adequacy of the draft alternatives and associated environmental effects. For comments to be most helpful, they should relate to specific concerns or conflicts that are within the legal responsibilities of the BLM and can be resolved in this planning process. The DRMP/EIS provides direction and guidance for the management of approximately 900,000 acres of public land and 1.3 million acres of federal mineral estate located in Beaverhead and Madison Counties in southwestern Montana. The DRMP/EIS will replace the Dillon Management Framework Plan approved in September 1979.

DATES: The comment period will end 90 days after the Environmental Protection Agency's Notice of Availability is published in the Federal Register announcing the availability of this DRMP/EIS. Comments on the DRMP/EIS must be received on or before the end of the comment period at the address listed below. Public meetings will be held during the comment period. Public meetings and any other public involvement activities will be announced at least 15 days in advance through public notices, media news releases, newsletter mailings, and on the Dillon RMP Web site at www.mt.blm.gov/dfo/rmp.

ADDRESSES: Written comments should be sent to Dillon RMP Team, BLM Dillon Field Office, 1005 Selway Drive, Dillon, Montana 59725. Comments may also be sent by e-mail to MT_Dillon_RMP@blm.gov. Documents pertinent to the DRMP/EIS and written comments, including names and street addresses of respondents, will be available for public review at the Dillon Field Office at the address above during regular business hours, 7:45 a.m. to 4:30 p.m., Monday through Friday, except holidays. Responses to the comments will be published as part of the Proposed Resource Management Plan/Final Environmental Impact Statement. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Review copies of the DRMP/EIS are available at the following locations in and near the planning area:

Beaverhead County Courthouse, Commissioner's Office, Dillon

BLM Butte Field Office

BLM Dillon Field Office

BLM Ennis Field Station

BLM Missoula Field Office

Bozeman Public Library

Dillon Public Library

Ennis Public Library

Lima Town Hall

Madison County Courthouse, Commissioner's Office, Virginia City

Red Rocks Refuge, Lakeview

Sheridan Forest Service Office

Twin Bridges Public Library

Whitehall Public Library

Wisdom Forest Service Office

Wise River Forest Service Office

The DRMP/EIS and other associated documents may also be viewed and downloaded in PDF format at the Dillon RMP Web site at www.mt.blm.gov/dfo/rmp.

FOR FURTHER INFORMATION CONTACT: For further information and/or to have your name added to the mailing list contact Renee Johnson, RMP Project Manager, at (406) 683-8016 or Tim Bozorth, Dillon Field Manager, at (406) 683-8023; use the toll-free number and information line at (877) 521-2889; or correspond by e-mail to MT_Dillon_RMP@blm.gov.

SUPPLEMENTARY INFORMATION: The Dillon Field Office RMP area is located in the southwestern portion of Montana in Beaverhead and Madison Counties. The planning area addressed in the RMP contains 901,226 acres of public surface estate and 1,354,710 acres of federal mineral estate administered by the BLM Dillon Field Office. The DRMP/EIS focuses on the principles of multiple use and sustained yield as prescribed by section 202 of the FLPMA. Beaverhead and Madison Counties participated in development of the plan as cooperating agencies with special expertise.

The public involvement and collaboration process implemented for this effort included a situation assessment conducted prior to scoping, five open houses during scoping, an information fair, release of reports on Wild and Scenic River and Area of Critical Environmental Concern (ACEC) findings, release of an RMP Digest document describing the current situation followed by nine public alternative development workshops, incorporation of recommendations from three Western Montana Resource Advisory Council (RAC) subgroups, and distribution of information via the Dillon RMP website and periodic newsletters. A copy of the DRMP/EIS has been sent to individuals, agencies, and groups who requested a copy, or as required by regulation or policy.

The DRMP/EIS considers and analyzes four (4) alternatives (A-D), including the No Action, or Continuation of Current Management alternative. These alternatives were developed based on extensive public input including scoping (September/October 2001), an information fair (April 2002), alternative development workshops (February 2003), numerous meetings with local, state, tribal, and federal agencies, and recommendations made by citizen-based working groups convened by the Western Montana RAC. The alternatives provide for an array of alternative land use allocations and variable levels of commodity production and resource protection and restoration. After comments are reviewed and any pertinent adjustments made, a Proposed RMP and Final Environmental Impact Statement is expected to be available in early 2005.

The issues addressed in the formulation of alternatives include upland and riparian management, forest and woodland management, noxious weeds, sage grouse and westslope cutthroat trout conservation, commercial uses (including livestock grazing, mineral development, oil and gas leasing, right-of-ways and communication use areas), Areas of Critical Environmental Concern (ACECs), Wild and Scenic Rivers, and travel management. Information on the management of the 13 potential ACECs and analysis of impacts is described within the Draft RMP/EIS.

Dated: January 23, 2004.
Martin C. Ott,
State Director.

[FR Doc. 04-7460 Filed 4-8-04; 8:45 am]

BILLING CODE 4310-$$-P